FEDERAL COMMUNICATIONS COMMISSION

47 CFR Part 1

[MD Docket No. 20-270; FCC 24-137; FR ID 273962]

Schedule of Application Fees

AGENCY: Federal Communications Commission.

ACTION: Final rule.

SUMMARY: In this document, the Federal Communications Commission (Commission) revises its Schedule of Application Fees to adjust for increases in the Consumer Price Index (CPI).

DATES: Effective date: May 23, 2025.

FOR FURTHER INFORMATION CONTACT: Daniel Daly, Office of Managing Director, at (202) 418-1832, Daniel.Daly@fcc.gov.

SUPPLEMENTARY INFORMATION: This is a summary of the Commission's Order, FCC 24-137, MD Docket No. 20-270, adopted on December 31, 2024, and released on January 7, 2025. Based on the CPI, there is an increase of 17.41 percent in application fees. The full text of this document is available for public inspection by downloading the text from the Commission's website at https://www.fcc.gov/document/2024-application-fee-order.

I. Procedural Matters

A. Final Regulatory Flexibility Analysis

1. No Final Regulatory Flexibility Analysis is required under the Regulatory Flexibility Act, 5 U.S.C. 604, because the amendments adopted herein pertain to agency organization, procedure, and practice, or because there is “good cause” to conclude that notice and comment and delayed effectiveness are unnecessary for non-substantive, editorial revisions.

B. Final Paperwork Reduction Act of 1995 Analysis

2. This document does not contain new or modified information collection requirements subject to the Paperwork Reduction Act of 1995, Public Law 104-13. In addition, therefore, it does not contain any new or modified information collection burden for small business concerns with fewer than 25 employees, pursuant to the Small Business Paperwork Relief Act of 2002, Public Law 107-198 see 44 U.S.C. 3506(c)(4).

C. Congressional Review Act

3. The Commission has determined, and the Administrator of the Office of Information and Regulatory Affairs, Office of Management and Budget, concurs that these rules are non-major under the Congressional Review Act, 5 U.S.C. 804(2). The Commission has sent a copy of the Order to Congress and the Government Accountability office, pursuant to 5 U.S.C. 801(a)(1)(A).

II. Order

4. By the Order, the Commission adopts rule changes to our Schedule of Application Fees set forth in §§ 1.1102 through 1.1109 of our rules, to adjust our fees for processing applications and other filings. Section 8(b)(1) of the Communications Act of 1934, as amended (Communications Act or Act), requires the Commission, in every even-numbered year, to adjust the schedule of fees for processing applications to reflect increases or decreases in the Consumer Price Index (CPI), rounded to the nearest $5 increment. In the Order, we make the 2024 CPI adjustment.

5. In December 2020, pursuant to authority established by the RAY BAUM'S Act, the Commission adopted a new application fee schedule that significantly updated the Commission's fiscal year (FY) 2018 fee schedule (last fee schedule before implementation of the RAY BAUM'S Act). Accordingly, in 2022, pursuant to section 8(b) of the Act, the Commission adjusted the fees by applying an inflation factor to the fees adopted in 2020 to reflect a change in the CPI of 11.59%, an increase of 30.958 index points calculated from 267.054 (April 2021) to 298.012 (October 2022). Applying the CPI Index consistent with the preceding calculation and adjusted within a specific timeframe, the fee schedule adopted in the 2024 Order reflects a change in the CPI of 17.41%, an increase of 46.494 index points calculated from 267.054 (first effective date of 2020 fees in April 2021) to 313.548 (April 2024). The adjustments comply with the requirements set forth in section 8(b) of the Act. Pursuant to section 8(b)(2) of the Act, however, the Commission may not adjust an application fee if: (1) in the case of a fee the current amount of which is less than $200, the adjustment would result in a change in the current amount of less than $10 or (2) in the case of a fee the current amount of which is $200 or more, the adjustment would result in a change in the current amount of less than 5 percent.

6. We recognize that, at the time of the Order, there are open rulemakings that propose new application fees. The Order, however, merely implements the 2024 CPI adjustment and does not address fees proposed in any other proceedings.

7. Procedural Matters. The methodology and timing of adjustments to application fees are prescribed by statute at 47 U.S.C. 158(b). Because our action implementing the statute under section 8(b) leaves us no discretion, prior notice and comment is unnecessary pursuant to 5 U.S.C. 553(b)(3)(B). Additionally, no final regulatory flexibility analysis is required pursuant to 5 U.S.C. 604(a) of the Regulatory Flexibility Act, 5 U.S.C. 601 et seq. Further, this document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

8. Congressional Review Act. The Commission has determined, and the Administrator of the Office of Information and Regulatory Affairs, Office of Management and Budget, concurs, that this rule is non-major under the Congressional Review Act, 5 U.S.C. 804(2). The Commission will send a copy of the Order to Congress and the Government Accountability Office pursuant to 5 U.S.C. 801(a)(1)(A) and section 9a(b) of the Act. Notification of the fee adjustments made in the Order will also be published in the Federal Register.

9. Electronic Payments. As a reminder, filers are required to submit payments electronically in accordance with the procedures set forth on the Commission's website, https://www.fcc.gov/licensing-databases/fees/application-processing-fees. Payments can be made through the Commission Registration System (CORES), accessible at https://apps.fcc.gov/cores/userLogin.do. To file applications, tariffs, and petitions, parties utilize, as applicable, the Commission's Electronic Tariff Filing System (ETFS) for tariffs, which can be found at https://apps.fcc.gov/etfs/etfsHome.action, or the Electronic Comment Filing System (ECFS), which can be found at https://www.fcc.gov/ecfs. Petitions filed in hard copy format should be submitted according to the procedures set forth on the web page of the Commission's Office of the Secretary, accessible at https://www.fcc.gov/secretary.

III. Ordering Clauses

10. Accordingly, it is ordered, that, pursuant to sections 1, 4(i), 4(j), and 8 of the Communications Act of 1934, as amended, 47 U.S.C. 151, 154(i), 154(j), and 158, the rule changes specified in the Order are adopted and the Schedule of Application Fees, 47 CFR 1.1102 through 1.1107, is amended as set forth in the Appendix of the Order.

11. It is further ordered that the rule changes and adjustments to the Schedule of Application Fees made in the Order shall become effective 30 days after publication in the Federal Register.

12. It is further ordered that the Office of the Managing Director, Performance Program Management, shall send a copy of the Order in a report to be sent to Congress and the Government Accountability Office pursuant to the Congressional Review Act, 5 U.S.C. 801(a)(1)(A), and section 9a(b) of the Act.

List of Subjects in 47 CFR Part 1

Administrative practice and procedure.

Federal Communications Commission.
Katura Jackson,
Federal Register Liaison Officer.

Final Rules

For the reasons discussed in the document above, the Federal Communications Commission amends part 1 of title 47 of the Code of Federal Regulations as follows:

PART 1—PRACTICE AND PROCEDURE

1. The authority citation for part 1 continues to read as follows:

Authority: 47 U.S.C. chs. 2, 5, 9, 13; 28 U.S.C. 2461 note; 47 U.S.C. 1754, unless otherwise noted.

2. Revise §§ 1.1102 through 1.1107 to read as follows:

* * * * *

Sec.
1.1102 Schedule of charges for applications and other filings in the wireless telecommunications services.
1.1103 Schedule of charges for equipment approval, experimental radio services (or service).
1.1104 Schedule of charges for applications and other filings for media services.
1.1105 Schedule of charges for applications and other filings for the wireline competition services.
1.1106 Schedule of charges for applications and other filings for the enforcement services.
1.1107 Schedule of charges for applications and other filings for the international services.
* * * * *

§ 1.1102 Schedule of charges for applications and other filings in the wireless telecommunications services.

Some of the wireless application fees in this section have a regulatory fee component that must be paid at the time of a new or a renewal of a wireless application. Please refer to the Wireless Filing Guide for payment type codes at https://www.fcc.gov/wireless-fees.

(a) In tables to this section, the amounts appearing in the column labeled “Fee Amount” are for application fees only. Certain services, as indicated in the following table, also have associated regulatory fees that must be paid at the same time the application fee is paid. For more information on the associated regulatory fees, please refer to the most recent Wireless Telecommunications Bureau Fee Filing Guide for the corresponding regulatory fee amount located at https://www.fcc.gov/wireless-fees For additional guidance, please refer to § 1.1152. Application fee payments are required to be made electronically using the Commission's Registration System (CORES) once an application has been submitted in the Universal Licensing System (ULS). CORES is accessible at: https://apps.fcc.gov/cores/userLogin.do.

(b) Site-based licensed services are services for which an applicant's initial application for authorization generally provides the exact technical parameters of its planned operations (such as transmitter location, area of operation, desired frequency(s)/band(s), power levels). Site-based licensed services include land mobile systems (one or more base stations communicating with mobile devices, or mobile-only systems), point-to-point systems (two stations using a spectrum band to form a data communications path), point to-multipoint systems (one or more base stations that communicate with fixed remote units), as well as radiolocation and radionavigation systems. Examples of these licenses include, but are not limited to, the Industrial/Business Pool, Trunked licenses and Microwave Industrial/Business Pool licenses.

Table 1 to Paragraph (b)
Site-based license applications | New fee
New license, major modification | $105.
Extension Requests | $50.
Special temporary authority | $150.
Assignment/transfer of control, initial call sign | $50.
Assignment/transfer of control, each subsequent call sign, fee capped at 10 total call signs per application | $35.
Site-based license applications New fee Rule waivers associated with applications for assignment/transfer of control, per transaction, assessed on the lead application | $425.
Rule waivers associated with applications for assignment/transfer of control, per transaction, assessed on the lead application | $425.
Rule waiver not associated with an application for assignment/transfer of control | $425.
Renewal | $35.
Spectrum leasing | $35.
Maritime, Aviation, Microwave, Land Mobile, and Rural Radio | Please refer to the Wireless Telecommunications Bureau Fee Filing Guide for Information on the payment of an associated regulatory fee.

(c) Personal licenses authorize shared use of certain spectrum bands or provide a required permit for operation of certain radio equipment. In either case, personal licenses focus only on eligibility and do not require technical review. Examples of these licenses include, but are not limited to, Amateur Radio Service licenses (used for recreational, noncommercial radio services), Ship licenses (used to operate all manner of ships), Aircraft licenses (used to operate all manner of aircraft), Commercial Radio Operator licenses (permits for ship and aircraft station operators, where required), General Mobile Radio Service (GMRS) licenses (used for short-distance, two-way voice communications using hand-held radios, as well as for short data messaging applications), Vanity, and Restricted Operator licenses.

Table 2 to Paragraph (c)
Personal license application | New fee
New license, modification | $35.
Special temporary authority | $35.
Rule waiver | $35.
Renewal | $35.
Vanity Call Sign (Amateur Radio Service) | $35.
Marine (Ship), Aviation (Aircraft), and GMRS | Please refer to the Wireless Telecommunications Bureau Fee Filing Guide for Information on the payment of an associated regulatory fee.

(d) Geographic-based licenses authorize an applicant to construct anywhere within a particular geographic area's boundary (subject to certain technical requirements, including interference protection) and generally do not require applicants to submit additional applications for prior Commission approval of specific transmitter locations. Examples of these licenses include, but are not limited to, the 220-222 MHz Service licenses, Upper Microwave Flexible Use Service licenses, 600 MHz Band Service licenses, and 700 MHz Lower Band Service licenses.

Table 3 to Paragraph (d)
Geographic-based license applications | New fee
New License (other than Auctioned Licenses), Major Modification | $360.
New License (Auctioned Licenses, Post-Auction Consolidated Long-Form and Short-Form Fee) (per application; NOT per call sign) | $3,730.
Renewal | $50.
Minor Modification | $225.
Construction Notification/Extensions | $325.
Special Temporary Authority | $375.
Assignment/Transfer of Control, initial call sign | $230.
Assignment/Transfer of Control, subsequent call sign | $35.
Spectrum Leasing | $185.
Rule waivers associated with applications for assignment/transfer of control, per transaction, assessed on the lead application | $425.
Rule waiver not associated with an application for assignment/transfer of control | $425.
Designated Entity Licensee Reportable Eligibility Event | $50.
Maritime, Microwave, Land Mobile, 218-219 MHz | Please refer to the Wireless Telecommunications Bureau Fee Filing Guide for information on the payment of an associated regulatory fee.

§ 1.1103 Schedule of charges for equipment approval, experimental radio services (or service).

Table 1 to § 1.1103
Type of application | Payment type code | Fee amount
Assignment of Grantee Code | EAG | $35.00
New Station Authorization | EAE | 140.00
Modification of Authorization | EAE | 140.00
Renewal of Station Authorization | EAE | 140.00
Assignment of License or Transfer of Control | EAE | 140.00
Special Temporary Authority | EAE | 140.00
Confidentiality Request | EAD | 50.00

§ 1.1104 Schedule of charges for applications and other filings for media services.

Table 1 to § 1.1104
Full power commercial and class A television stations: Type of application | Full power commercial and class A television stations: Payment type code | Full power commercial and class A television stations: Fee amount
New or Major Change, Construction Permit | MVT | $5,000/application (if no Auction).
New or Major Change, Construction Permit | MVS | $5,675/application (if Auction, include Post-Auction, Consolidated Long & Short Form Fee).
Minor Modification, Construction Permit | MPT | $1,565/application.
New License | MJT | $425/application.
License Renewal | MGT | $370/application.
License Assignment (2100 Schedule 314 & (long form)) | MPU | $1,460/station.
License Assignment (2100 Schedule 316 & (short form)) | MDT | $475/station.
Transfer of Control (2100 Schedule 315 & (long form)) | MPU | $1,460/station.
Transfer of Control (2100 Schedule 316 & (short form)) | MDT | $475/station.
Call Sign | MBT | $190/application.
Special Temporary Authority | MPV | $315/application.
Petition for Rulemaking for New Community of License | MRT | $3,985/petition.
Biennial Ownership Report (Full Power TV Stations Only) | MAT | $95/station.

Table 2 to § 1.1104
Commercial AM radio stations: Type of application | Commercial AM radio stations: Payment type code | Commercial AM radio stations: Fee amount
New or Major Change, Construction Permit | MUR | $4,675/application.
New or Major Change, Construction Permit | MVR | $5,350/application.
Minor Modification, Construction Permit | MVU | $1,910/application.
New License | MMR | $755/application.
AM Directional Antenna | MOR | $1,480/application.
License Renewal | MGR | $365/application.
License Assignment (2100 Schedule 314 & (long form)) | MPR | $1,180/station.
License Assignment (2100 Schedule 316 & (short form)) | MDR | $500/station.
Transfer of Control (2100 Schedule 315 & (long form)) | MPR | $1,180/station.
Transfer of Control (2100 Schedule 316 & (short form)) | MDR | $500/station.
Call Sign | MBR | $190/application.
Special Temporary Authority | MVV | $325/application.
Biennial Ownership Report | MAR | $95/station.

Table 3 to § 1.1104
Commercial FM radio stations: Type of application | Commercial FM radio stations: Payment type code | Commercial FM radio stations: Fee amount
New or Major Change, Construction Permit | MTR | $3,870/application, if no Auction.
New or Major Change, Construction Permit | MVW | $4,545/application, if Auction, include Consolidated Long and Short Form Fee.
Minor Modification, Construction Permit | MVX | $1,485/application.
New License | MHR | $275/application.
FM Directional Antenna | MLR | $705/application.
License Renewal | MGR | $365/application.
License Assignment (2100 Schedule 314 & (long form)) | MPR | $1,180/station.
License Assignment (2100 Schedule 316 & (short form)) | MDR | $500/station.
Transfer of Control (2100 Schedule 315 & (long form)) | MPR | $1,180/station.
Transfer of Control (2100 Schedule 316 & (short form)) | MDR | $500/station.
Call Sign | MBR | $190/application.
Special Temporary Authority | MVY | $235/application.
Petition for Rulemaking for New Community of License | MRR | $3,735/petition.
Biennial Ownership Report | MAR | $95/station.

Table 4 to § 1.1104
FM translators: Type of application | FM translators: Payment type code | FM translators: Fee amount
New or Major Change, Construction Permit | MOF | $830/application, if no Auction.
New or Major Change, Construction Permit | MVZ | $1,505/application, if Auction, include Consolidated Long and Short Form Fee.
Minor Modification, Construction Permit | MWA | $235/application.
New License | MEF | $210/application.
FM Translator/Booster License Renewal | MAF | $205/application.
FM Translator/Booster Spec. Temp. Auth | MWB | $190/application.
FM Translator License Assignment (2100 Schedule 345, 314, & 316) | MDF | $325/station.
FM Translator Transfer of Control (2100 Schedule 345, 315, & 316) | MDF | $325/station.
FM Booster, New or Major Change, Construction Permit | MOF | $830/station.
FM Booster, New License | MEF | $210/application.
FM Booster, Special Temporary Authority | MWB | $190/application.

Table 5 to § 1.1104
Section 310(b)(4) foreign ownership petition: Type of application | Section 310(b)(4) foreign ownership petition: Payment type code | Section 310(b)(4) foreign ownership petition: Fee amount
Foreign Ownership Petition (separate and additional fee required for underlying application, if any) | MWC | $2,920/application.

Table 6 to § 1.1104
TV translators and LPTV stations: Type of application | TV translators and LPTV stations: Payment type code | TV translators and LPTV stations: Fee amount
New or Major Change, Construction Permit | MOL | $910/application, if no Auction.
New or Major Change, Construction Permit | MOK | $1,585/application, if Auction, include Consolidated Long and Short Form Fee.
New License | MEL | $250/application.
License Renewal | MAL | $170/application.
Special Temporary Authority | MGL | $315/application.
License Assignment (2100 Schedule 345, 314, & 316) | MDL | $375/station.
Transfer of Control (2100 Schedule 345, 315, & 316) | MDL | $375/station.
Call Sign | MBT | $190/application.

Table 7 to § 1.1104
Cable television and cars license services: Type of application | Cable television and cars license services: Payment type code | Cable television and cars license services: Fee amount
Cable TV & CARS New License | TIC | $530
Cable TV & CARS License, Modification (Major) | TID | 405
Cable TV & CARS License, Modification (Minor) | TIE | 50
Cable TV & CARS License, Renewal | TIF | 305
Cable TV & CARS License, Assignment | TIG | 430
Cable TV & CARS License, Transfer of Control | TIH | 520
Cable TV & CARS License, Special Temporary Authority | TGC | 265
Cable TV, Special Relief Petition | TQC | 1,895
Cable TV & CARS License, Registration Statement | TAC | 115
Cable TV & MVPD, Aeronautical Frequency Notification | TAB | 100

§ 1.1105 Schedule of charges for applications and other filings for the wireline competition services.

Table 1 to § 1.1105
Wireline competition services: Type of application | Wireline competition services: Payment type code | Wireline competition services: Fee amount
Domestic 214 Applications—Part 63, Transfers of Control | CDU | $1,445
Domestic 214 Applications—Special Temporary Authority | CDV | 755
Domestic 214 Applications—Part 63 Discontinuances (Non-Standard Review) (Technology Transition Filings Subject to Section 63.71 (f) (2) (i) or Not Subject to Streamlined Automatic Grant, and Filings From Dominant Carriers Subject to 60-Day Automatic Grant) | CDW | 1,445
Domestic 214 Applications—Part 63 Discontinuances (Standard Streamlined Review) (All Other Domestic 214 Discontinuance Filings) | CDX | 375
VoIP Numbering | CDY | 1,560
Standard Tariff Filing | CQK | 1,040
Complex Tariff Filing (annual access charge tariffs, new or restructured rate plans) (Large—all price cap LECs and entities involving more than 100 LECs) | CQL | 7,680
Complex Tariff Filing (annual access charge tariffs, new or restructured rate plans) (Small—other entities) | CQM | 3,840
Application for Special Permission for Waiver of Tariff Rules | CQN | 420
Waiver of Accounting Rules | CQP | 5,185
Universal Service Fund Auction (combined long-form and short-form fee, paid only by winning bidder) | CQQ | 3,480

§ 1.1106 Schedule of charges for applications and other filings for the enforcement services.

Table 1 to § 1.1106
Enforcement services: Type of application | Enforcement services: Payment type code | Enforcement services: Fee amount
Formal Complaint | CIZ | $605
Pole Attachment Complain | TPC | 605
Petitions Regarding Law Enforcement Assistance Capability under CALEA | CLEA | 8,155

§ 1.1107 Schedule of charges for applications and other filings for the international services.

Table 1 to § 1.1107
International services: Cable landing license, per application | International services: Payment type code | International services: New fee
New License, Cable Landing License Application, E-filed via MyIBFS | CXT | $4,505
Assignment/Transfer of Control, Submarine Cable Landing—Assignment of License or Transfer of Control, E-filed via MyIBFS | CUT | 1,445
Pro Forma Assignment/Transfer of Control, Submarine Cable Landing—Assignment of License or Transfer of Control, E-filed via MyIBFS | DAA | 470
Foreign Carrier Affiliation Notification, Foreign Carrier Affiliation Notification (FCN), E-filed via MyIBFS | DAB | 580
Modification, Submarine Cable Landing—Modification of License, E-filed via MyIBFS | DAC | 1,445
Renewal | DAD | 2,865
Special Temporary Authority, Submarine Cable Landing—Request for Special Temporary Authority, E-filed via MyIBFS | DAE | 755
Waiver | DAF | 375

Table 2 to § 1.1107
International services: International Section 214 authorization, per application | International services: Payment type code | International services: New fee
New Authorization, International Section 214 Application, E-filed via MyIBFS | DAG | $920
Assignment/Transfer of Control, International Section 214 Authorizations For Assignment Or Transfer of Control, E-filed via MyIBFS | CUT | 1,445
Pro forma Assignment/Transfer of Control, International Section 214 Authorizations For Assignment Or Transfer of Control, E-filed via MyIBFS | DAA | 470
Foreign Carrier Affiliation Notification, Foreign Carrier Affiliation Notification (FCN), E-filed via MyIBFS | DAB | 580
Modification, International Section 214—Modification of Authorization, E-filed via MyIBFS | DAH | 755
Special Temporary Authority, International Section 214 Special Temporary Authority Application, E-filed via MyIBFS | DAE | 755
Waiver | DAF | 375
Discontinuance of services | DAJ | 375

Table 3 to § 1.1107
International services: Section 310(b) foreign ownership, per application | International services: Payment type code | International services: New fee
Petition for Declaratory Ruling, Section 310(b) Petition for Declaratory Ruling, E-filed via MyIBFS | DAK | $2,920
Waiver | DAF | 375

Table 4 to § 1.1107
International services: Recognized operating agency per application | International services: Payment type code | International services: New fee
Application for ROA Status, Recognized Operating Agency Filing, E-filed via MyIBFS | DAL | $1,345
Waiver | DAF | 375

Table 5 to § 1.1107
International services: Data Network Identification Code (DNIC), per application | International services: Payment type code | International services: New fee
New DNIC, Data Network Identification Code Filing, E-filed via MyIBFS | DAM | $920
Waiver | DAF | 375

Table 6 to § 1.1107
International services: International Signaling Point Code (ISPC), per application | International services: Payment type code | International services: New fee
New ISPC, International Signalling Point Code Filing, E-filed via MyIBFS | DAN | $920
Transfer of Control | DAP | 755
Modification | DAH | 755
Waiver | DAF | 375

Table 7 to § 1.1107
International services: Satellite earth station applications | International services: Payment type code | International services: New fee
Fixed or Temporary Fixed Transmit or Transmit/Receive Earth Stations, per Call Sign
Initial application, single site | BAX | $425.
Initial application, multiple sites | BAY | 7,650.
Receive Only Earth Stations License or Registration, per Call Sign or Registration
Initial application or registration, single site | CMO | 205.
Initial application or registration, multiple sites, per system | CMP | 520.
Initial application for Blanket Earth Stations, per Call Sign | CMQ | 425.
Mobile Earth Stations Applications, per Call Sign
Initial Application for Blanket Authorization, per system, per Call Sign | BGB | 955.
Amendments to Earth Station Applications or Registrations per Call Sign
Single Site | BGC | 505.
Multiple Sites | BGD | 705.
Earth Stations, Other Applications
Applications for Modification of Earth Station Licenses or Registrations, per Call Sign | BGE | 610.
Assignment or Transfer of Control of Earth Station Licenses or Registrations, per Call Sign | BGF BGG | 875 (first call sign). 470 (for each additional call sign).
Pro Forma Assignment or Transfer of Control of Earth Station Licenses or Registrations, per Transaction | BHA | 470.
Earth Stations, Special Temporary Authority, per Call Sign | BHD | 220.

Table 8 to § 1.1107
International services: Earth station renewals of licenses, per call sign | International services: Payment type code | International services: New fee
Single Site | BHB | $130.
Multiple Sites | BHC | 170.
Earth Station Requests for U.S. Market Access for Non-U.S. Licensed Space Stations |  | See Space Stations.

Table 9 to § 1.1107
International services: Satellite space station applications | International services: Payment type code | International services: New fee
Space Stations, Geostationary Orbit
Application for Authority to Construct, Deploy, and Operate, per satellite | BNY | $4,175.
Application for Authority to Operate, per satellite | BNZ | 4,175.
Space Stations, Non-Geostationary Orbit
Application for Authority to Construct, Deploy, and Operate, per system of technically identical satellites, per Call Sign | CLW | 17,670.
Application for Authority to Operate, per system of technically identical satellites, per Call Sign | CLY | 17,670.
Space Stations, Petition for Declaratory Ruling for Foreign-Licensed Space Station To Access the U.S. Market
///Geostationary Orbit, per Call Sign | FAB | 4,175.
Non-Geostationary Orbit, per Call Sign | FAC | 17,670.
Small Satellites, per Call Sign | FAD | 2,555.
Space Stations, Small Satellites, or Small Spacecraft
Application to Construct, Deploy, and Operate, per Call Sign | FAE | 2,555.
Other Applications for Space Stations
Space Stations, Amendments, per Call Sign | FAF | 1,900.
Space Stations, Modifications, per Call Sign | FAG | 2,930.
Space Stations, Assignment or Transfer of Control, per Call Sign | FAH FAJ | 875 (first call sign). 470 (for each additional call sign).
Space Stations, Pro Forma Assignment or Transfer of Control, per transaction | FAK | 470.
Space Stations, Special Temporary Authority, per Call Sign | FAL | 1,685.
Unified Space Station and Earth Station Initial Application, Amendment, and Modification
Unified Space Station and Earth Station Initial Application, Amendment, and Modification | FCC Form 312 with Schedules B & S | Applicable Space Station Fee + Applicable Earth Station Fee.

Table 10 to § 1.1107
International services: International Broadcast Stations (IBS) applications | International services: Payment type code | International services: New fee
New Construction Permit | MSN | $4,710.
Construction Permit Modification | FAN | 4,710.
New License | MNN | 1,065.
License Renewal | MFN | 270.
Frequency Assignment | MAN | 90 per frequency-hour requested.
Transfer of Control | MCN | 700.
Special Temporary Authority | MGN | 465.

Table 11 to § 1.1107
International services: Permit to deliver programs to foreign broadcast stations under Section 325(c) applications | International services: Payment type code | International services: New fee
New License | MBU | $425.
License Modification | MBV | 215.
License Renewal | MBW | 175.
Special Temporary Authority, Written Request | MBX | 175.
Transfer of Control, Written Request | MBY | 305.

[FR Doc. 2025-06899 Filed 4-22-25; 8:45 am]

BILLING CODE 6712-01-P